DEPARTMENT OF COMMERCE

National Oceanic and Atmospheric Administration

Draft Revised Management Plan for the Grand Bay National Estuarine Research Reserve

AGENCY: Office for Coastal Management, National Ocean Service, National Oceanic and Atmospheric Administration, U.S. Department of Commerce.

ACTION: Request for comments on draft revised management plan.

SUMMARY: The National Oceanic and Atmospheric Administration (NOAA) is soliciting comments from the public regarding a proposed revision of the management plan for the Grand Bay National Estuarine Research Reserve. A management plan provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2018.

DATES: Comments are due by March 4, 2022.

ADDRESSES: The draft revised management plan is available at: grandbaynerr.org/reserve-management-plan/, or by emailing Matt Chasse of NOAA's Office for Coastal Management at matt.chasse@noaa.gov.

You may submit comments by the following method:

Electronic Submission: Submit all electronic public comments by email to matt.chasse@noaa.gov and ayesha.gray@dmr.ms.gov. Include “Comments on draft Grand Bay Reserve Management Plan” in the message's subject line.

FOR FURTHER INFORMATION CONTACT: Matt Chasse of NOAA's Office for Coastal Management at matt.chasse@noaa.gov or (240) 628-5417.

SUPPLEMENTARY INFORMATION: Pursuant to 15 CFR 921.33(c), a State must revise the management plan for the research reserve at least every five years. If approved by NOAA, the Grand Bay Reserve's revised plan will replace the plan previously approved in 2013.

The draft revised management plan outlines the reserve's strategic goals and objectives; administrative structure; programs for conducting research and monitoring, education, and training; resource protection, restoration, and manipulation plans; public access and visitor use plans; consideration for future land acquisition; and facility development to support reserve operations. In particular, this draft of the revised management plan focuses on addressing specific research priorities, including restoration effectiveness monitoring; understating physical and hydrological processes within the reserve; sources and impacts of contaminants; and the socio-economic impacts of ecosystem restoration. There is also an added focus related to monitoring programs as a valued regional and national reference site through the use of abiotic parameters, sentinel sites, atmospheric mercury, and restoration monitoring. Furthermore, the plan prioritizes improving public access and the visitor experience through enhanced trail and debris management efforts, and a greater focus on habitat restoration, especially upland habitats (e.g., wet pine savannas and flatwoods) and along the marsh upland interface. Much of the effort in this plan is linked to the multi-year Grand Bay Land Acquisition and Habitat Management project. The reserve will also pursue research designed to protect shorelines and re-establish viable oyster populations in this area of the Mississippi coast. Another priority identified in the plan calls for reserve investments in the maintenance and upgrade of the existing facilities and monitoring infrastructure.

The reserve's training program will design trainings around priority issues, such as invasive species, habitat restoration, coastal and estuarine processes, marsh and uplands ecology, coastal habitats, sea level rise, and community resilience. A new focus area of the reserve identified in the plan is the transfer of skills and knowledge relating to flood mitigation to nearby disadvantaged communities. Education programming will have a continued emphasis on place-based learning for students, teachers, non-traditional audiences (i.e., artists, veterans, seniors and others). New programs will be added to target non-traditional reserve audiences, such as, pre-K students, people with disabilities, seniors, and other groups. These new programs will create opportunities for people who do not typically use the reserve or participate in reserve events.

Reserve research continues to generate peer-reviewed and published research about the estuary. The reserve has expanded its role in restoring coastal habitats through the Natural Resource Damage Assessment funded `Land Acquisition and Habitat Management Project' in areas adjacent to the reserve. Reserve research and monitoring capabilities have also been integrated into habitat restoration projects and bring a new level of monitoring effectiveness for this type of project. In recent years, the reserve's monitoring efforts have confirmed the nitrogen limitations of the estuary, contributed to a national analyses of sediment elevation table data, and helped create digital elevation models for the reserve's sentinel sites.

The reserve successfully conducted a 2019 assessment of municipal officials that identified priorities for coastal training programming. These results were incorporated into the revised plan. In addition to success of the K-12 student-focused `On the Road' program, the reserve has emphasized place-based learning opportunities for the public, K-12 students, teachers, and non-traditional audiences (i.e., artists, veterans, seniors, pre-K students, people with disabilities, and other non-traditional groups). Engaging with non-traditional audiences has been a successful endeavor for this reserve.

Since the last management plan, the reserve has prioritized the comprehensive management of upland and estuarine resources at a landscape scale. Public trails were created or maintained, and boat access was improved. The reserve has actively used fire management to restore wet pine savanna in collaboration with State and Federal partners. The revised management plan, once approved, would serve as the guiding document for the 18,049-acre research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

(Authority: 16 U.S.C. 1451 et seq.; 15 CFR 921.33.)

Keelin S. Kuipers,
Deputy Director, Office for Coastal Management, National Ocean Service, National Oceanic and Atmospheric Administration.

[FR Doc. 2022-02074 Filed 2-1-22; 8:45 am]

BILLING CODE 3510-NK-P